DEPARTMENT OF HEALTH AND HUMAN SERVICES

Administration for Children and Families

Office of Refugee Resettlement

Support for Services to Torture Victims

Funding Opportunity Title: Support for Services to Torture Victims.

Announcement Type: Modification/Renewal.

Funding Opportunity Number: HHS-2004-ACF-ORR-ZT-0002.

CFDA Number: 93.604.

Due Date for Application: May 21, 2004.

Category of Funding Activity: Income Security and Social Services.

Executive Summary: ORR invites applications to support programs of services to persons who have experienced torture. Services may be for medical, psychological, social and legal needs. Activities may also include training and professional development for health care providers who are outside the treatment centers or programs supported by this announcement. Applications are also invited for one cooperative agreement for technical assistance to programs providing services to torture victims and training and development of service providers.

I. Funding Opportunity Description

Legislative Authority: The “Torture Victims Relief Reauthorization Act of 2003” took effect October 1, 2003. Pub. L.—108-179, Section 2 (a) Authorization of Appropriations for Domestic Treatment Centers for Victims of Torture amends Section 5(b)(1) of the Torture Victims Relief Act of 1998 (22 U.S.C. 2152 note) to read as follows:

(1) Authorization of Appropriations.—Of the amounts authorized to be appropriated for the Department of Health and Human Services for fiscal years 2004 and 2005, there are authorized to be appropriated to carry out subsection (a) (relating to assistance for domestic centers and programs for the treatment of victims of torture) $20,000,000 for fiscal year 2004 and $25,000,000 for fiscal year 2005.

In October 1998, Congress enacted the “Torture Victims Relief Act of 1998,” Pub. L. 105-320 (22 U.S.C. 2152 note). Sec. 5 (a) of the law provides:

Assistance for Treatment of Torture Victims—The Secretary of Health and Human Services may provide grants to programs in the United States to cover the cost of the following services:

(1) Services for the rehabilitation of victims of torture, including treatment of the physical and psychological effects of torture.

(2) Social and legal services for victims of torture.

(3) Research and training for health care providers outside of treatment centers, or programs for the purpose of enabling such providers to provide the services described in paragraph (1).

Background

This program announcement is the third iteration of the program “Assistance for Treatment of Torture Survivors.” The first notice was issued in 2000 resulting in 16 four-year awards with one additional cooperative agreement for technical assistance. A second notice issued in 2001 increased the number of grants by 9 three-year awards for 25 total grants. Programs have been established in 25 communities across the United States. Approximately 3500 victims of torture have been served. Much has been learned about providing services to persons who have been tortured. The grantees have developed a diverse set of services. In this announcement, ORR is interested in continuing the diversity of effective services for the clients. Also noteworthy is that the medical, psychological, social and legal service providers in most of the 25 communities have had access to training and professional development to better serve persons who have been tortured.

Building upon the experience from the current projects, ORR is interested in supporting renewed efforts at identifying effective treatment and service strategies. ORR expects that many of the current grantees will be successful applicants to this notice. However, ORR also is interested in seeing additional grants awarded in communities where no program for torture victims currently is supported by the federal government or other resources but where the prevalence of torture victims is sufficient to warrant a program of services.

While support of individual programs is the means ORR sees in implementing the legislation and providing the services envisioned in the legislation, it is also of interest to ensure that a collaboration across all the programs provides mutual benefit by sharing the promising practices learned, mentoring across programs, applying effective services and treatment strategies, developing stability in organizations and working toward a sustainable set of services with decreased need for federal funds.

Torture and Torture Victims

The psychosocial and health consequences of violence and traumatic stress have emerged as one of the major public health problems of our time. Torture constitutes one of the most extreme forms of trauma, with the potential for long-term psychological and physical suffering. The term torture has been defined in different ways by different organizations and for different purposes. The two most commonly used definitions of torture were formulated by the World Health Organization (WHO) and by the United Nations (UN). The WHO definition, which governs professional standards and ethics for physicians was developed in 1975. It is frequently called the “Declaration of Tokyo,” and it represents a popular definition among the medical community. The “Declaration of Tokyo” defines torture as:

“* * *the deliberate, systematic or wanton infliction of physical or mental suffering by one or more persons acting alone or on the orders of any authority, to force another person to yield information, to make a confession, or for any other reason.”

The UN definition, developed at the same time and revised in 1989, narrows the concept of torture somewhat by adding the legal and political responsibilities of governments. It states:

“* * * the term “torture” means any act by which severe pain or suffering, whether physical or mental, is intentionally inflicted on a person for such purposes as obtaining from him or, a third person, information or a confession, punishing him for an act he or a third person has committed, or intimidating or coercing him or a third person for any reason based on discrimination of any kind, when such pain or suffering is inflicted by or at the instigation of or with the consent or acquiescence of a public official or other person acting in an official capacity. It does not include pain or suffering arising only from, inherent in or incidental to lawful sanctions.”

This program authorized by the “Torture Victims Relief Reauthorization Act of 2003” uses the definition of torture given the term in section 2340(1) of title 18, United States Code and includes the use of rape and other forms of sexual violence by a person acting under the color of the law upon another person under his custody or physical control. This definition is consistent with the UN definition and states that torture is:

“* * * an act committed by a person acting under the color of law specifically intended to inflict severe physical pain or suffering (other than pain or suffering incidental to lawful sanctions) upon another person within his custody or physical control.”

It should be emphasized that, for purposes of this announcement, it is recognized that the experience of torture may include specific characteristics of torture as documented in personal testimony or in clinical, medical, or detention settings.

Some specific examples of physical and psychological types of torture committed by a person acting under the color of law are: systemic beating, sexual torture, electrical torture, suffocation, burning, bodily suspension, pharmacological torture, mutilations, dental assaults, deprivation and exhaustion, threats about the use of torture, witnessing the torture of others, humiliation, and isolation.

Prevalence of Torture

Estimates of the number of torture survivors have been established primarily by extrapolating from the major populations at risk—refugees and internally displaced persons. In 1997, there were estimated to be more than 13,600,000 refugees and asylum seekers in the world and 20 million internally displaced persons. The estimates of refugees, asylum seekers and displaced persons who have been tortured vary widely from 5% to 35%. This announcement, which focuses on health, social and legal services for torture survivors, as well as education and training of providers, recognizes that torture may have been an experience of many members of groups residing in the United States, including refugees, asylees, immigrants, other displaced persons, and U.S. citizens who were tortured abroad. Using data cited above, it has been estimated that there may be more than 400,000 torture survivors in the United States.

The Consequences of Torture and Services for Torture Survivors

Physical consequences of torture may be extensive and severe. Specific neuropsychological symptoms are often difficult to diagnose because of head injuries, the multiplicity of symptoms, and co-morbidity. Post-traumatic stress disorder, depression, substance abuse, and other anxiety disorders are common diagnoses among torture survivors. Therefore, for many severely tortured individuals, access to medical practitioners and sophisticated diagnostic instruments and testing (e.g.; neuro-imaging, cognitive functions, etc.), for the purpose of differential diagnosis, is paramount. When psychotherapeutic services are offered, they should be evidence-based and it should be established in the treatment plan why the proposed approaches should be considered “promising-practices” for the treatment of torture survivors.

While medical and psychological services are thought of as primary for persons who have been tortured, a high percentage of torture survivors are in need of social and legal services. Access to legal and immigration services is often a priority for the person. Social services, such as housing, employment assistance and vocational training, may also be extremely important and correlate with successful psychosocial adjustment and well-being. Additional attention may be needed for members of the family who have second-hand experience with torture. Several projects report additional services are needed for the family since domestic violence will occasionally be associated with a torture victim's family. From national experience with refugees and survivors of wartime violence, it has been demonstrated that early and adequate access to social and legal services may also preclude or reduce the need for more specialized psychological treatment services.

Use of case management services that provide information and referral to services to the client can be an important step in restoring an individual's ability to take charge of his/her progress in establishing a life in the new community.

Purpose and Objectives

Flexible Service Delivery

The purpose of the torture treatment program is to provide services to persons who have experienced torture. It is also to conduct training for health care, psychological, legal and social service providers outside the torture treatment centers to provide appropriate services and care to torture survivors. Not all torture survivors have the same medical, psychological, social, or legal needs, and services funded under this announcement will reflect a wide scope of venues for populations to be targeted and services to be provided. Because of the diverse individualized needs of torture survivors, programs should offer client-centered services. Services for medical, psychological, legal and social needs should be provided by the grantee or otherwise be made available through other organizations in the community where the grant is awarded.

In client-centered programs, clients are considered first and foremost in the planning, implementation, and evaluation of service delivery. They recognize that clients are the key to understanding their own personal circumstances. It does not assume that the service providers know what is best, most timely, or a priority. Program staff should gather information with clients to design an appropriate complement of services. Client preferences should guide every aspect of service delivery. In turn, providers should possess the specialized knowledge and skills to help clients make informed choices and to maintain a high quality of care.

Some programs have operated as if one of the services, usually psychological, is essential to restoring health in all torture victims and thus require psychological counseling for all clients. This is not consistent with the client-centered perspective noted above. For example, if a client is seeking legal assistance and employment assistance, access to these services should not be contingent upon mandatory participation in psychological services.

It is also emphasized that within the medical, psychological, social and legal service domains proposals are encouraged that will address a broad menu of services for torture survivors. Providers in underserved geographic locations of the country are encouraged to apply. Ethnic-based, faith-based and community organizations that currently serve or have access to torture survivor populations are also encouraged to apply. For example, funded partnerships may be established with ethnic-based or faith-based organizations that have access to prospective clients who have been tortured. Also, health education information and referral services may be more effectively delivered by ethnic-based and faith-based organizations with a curriculum developed in partnership with the treatment center grantee.

Cross-Organization Collaboration

Moreover, collaborative relationships and partnerships are encouraged from programs that may provide services in one area, but may have creative ideas for expanding into other service areas. For example, an organization that currently provides legal advice to detained asylum seekers who are torture survivors might team with another social service or clinical organization to pool resources and expand their range of services.

The torture rehabilitation and treatment center movement, which was established in Denmark in the 1970's, and adopted in the U.S., Canada, France and other countries, has led to the growth of specialized torture survivor treatment centers in certain parts of the nation. Although the treatment center movement has created opportunities for treatment and training in specific urban areas, many torture survivors are not aware of the services and do not have access to these highly specialized programs. Medical, social and legal services for torture survivors may need to be developed or expanded in under-served areas and in settings and institutions not as highly specialized and, heretofore, outside of the torture survivor treatment center movement network.

Broad-Based Education and Training for Service Providers

There is also a national need for more broad-based training of medical and mental health practitioners in the identification, diagnosis and treatment of torture survivors. Because the number of torture victims exceeds the number of torture treatment resources supported by this program, ORR is interested in supporting training of those professionals and organizations who are likely to provide services to victims of torture outside of the treatment centers.

Because torture victims may access medical, legal and social services before seeking psychological help for the effects of torture, ORR is interested in broad community efforts to raise the consciousness of service organizations to identify and appropriately refer those who are suffering the result of torture.

Programmatic Sustainability

Applicants should incorporate activities for program sustainability beyond federal funding into their program implementation plans. It may not be possible to achieve complete independence from federal funds in the two years of this program authority, but progress to that end will be viewed favorably. Examples of activities around sustainability include those that build partnerships, communication and media activities, and participation in technical assistance and training offerings. Applicants may also have additional resources from grants to support services to torture victims. Applicants are encouraged to describe the complete program in the community that benefits torture victims with the amount and source of the resources. The portion to be supported by federal funds from this announcement should be described separately and in detail.

Applications may also include unpaid professionals providing services pro bono. This is an important resource, but not without program implications. Recruitment of pro bono professionals, training, oversight and supervision as well as recognition should be thoroughly planned.

Please note that this announcement is divided into two priority areas. The first priority area is Assistance to Torture Survivors Through Direct Services and the second priority area is Assistance to Torture Survivors Through Technical Assistance to Organizations and Institutions Providing Direct Services to Torture Victims. The second program area information immediately follows section VIII of priority area one. An applicant may submit more than one application under this announcement, but must apply separately for each priority area.

Priority Area 1

Assistance to Torture Survivors Through Direct Services

Description: ORR is interested in awarding up to 30 grants for direct services for persons who have been tortured. Allowable activities include medical, psychological, social and legal services. Applicants may propose all the activities or a combination of the listed services. These services are fully described in the background section of this announcement. However, if the applicant does not propose to provide all the allowable activities, applications should demonstrate how the client can access other services if needed. The applicant may demonstrate partnerships with other service providers in order to provide the full complement of allowable activities in the community.

In addition to direct services, the legislative authority provides for research and training for service providers outside the treatment centers. The applicant may also propose to conduct such trainings and professional development activities so that persons who have experienced torture may have access to a variety of services and service providers.

ORR expects that many of the current grantees will be successful applicants to this announcement. It is also important that communities that do not have an established center but where persons who have been tortured are known to reside will also have successful applicants. These communities include but are not limited to: Atlanta, GA; Miami, FL; Houston and Dallas, TX; and Seattle, WA.

II. Award Information

Funding Instrument Type: Grant.

Anticipated Total Priority Area Funding: $9,359,000 per year.

Anticipated Number of Awards: 25-30.

Average Projected Award Amount: $275,000 per year.

Ceiling of Individual Awards: $550,000 per year.

Floor on Amount of Individual Awards: $90,000 per year.

Length of Project Periods: Twenty-four month (24) project periods with twelve (12) month budgets.

III. Eligibility Information

III.1. Eligible Applicants

State governments;

County governments;

Nonprofits having a 501(c)(3) status with the IRS, other than institutions of higher education;

Nonprofits that do not have a 501(c)(3) status with the IRS, other than institutions of higher education; and

Others.

Additional Information on Eligibility: Faith-based organizations are also eligible applicants.

Any non-profit organization submitting an application must submit proof of its non-profit status in its application at the time of submission. The non-profit agency can accomplish this by providing any of the following: (a) A reference to the applicant organization's listing in the Internal Revenue Service's (IRS) most recent list of tax-exempt organizations described in the IRS Code; (b) a copy of a currently valid IRS tax exemption certificate; (c) a statement from a State taxing body, State attorney general, or other appropriate State official certifying that the applicant organization has a non-profit status and that none of the net earnings accrue to any private shareholders or individuals; (d) a certified copy of the organization's certificate of incorporation or similar document that clearly establishes non-profit status; or (e) any of the items referenced above for a State or national parent organization and a statement signed by the parent organization that the applicant organization is a local non-profit affiliate.

III.2. Cost-Sharing or Matching

No.

III.3. Other

On June 27, 2003, the Office of Management and Budget published in the Federal Register a new Federal policy applicable to all Federal grant applicants. The policy requires Federal grant applications to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formal, entitlement and block grant programs, submitted on or after October 1, 2003.

Please ensure that your organization has a DUNS number. You may acquire a DUNS number at no cost by calling the dedicated toll-free DUNS number request line at 1-866-705-5711, or you may request a number on-line at www.dnb.com.

Applicants are cautioned that the ceiling for individual awards is $550,000. Applications exceeding the $550,000 threshold may be returned without review.

IV. Application and Submission Information

IV.1. Address To Request Application Package

Carl Rubenstein, Office of Refugee Resettlement, Administration for Children and Families, 370 L'Enfant Promenade, SW., 8th Floor West, Washington, DC 20447, E-mail: crubenstein@acf.hhs.gov, Telephone: (202) 205-5933, URL: http://www.acf.hhs.gov/programs/orr/funding/akit.htm.

IV.2. Content and Form of Application Submission

Application Content

Each application must include the following components:

1. Table of Contents.

2. Project Summary/Abstract of the Proposed Project—very brief, not to exceed one page, that would be suitable for use in an announcement that the application has been selected for a grant award and which identifies the type of project, the target population and the major elements of the work plan.

3. Completed Standard Form 424—that has been signed by an Authorized Official of the organization applying for the grant who has the authority to obligate the organization legally.

4. Standard Form 424A—Budget Information—Non-Construction Programs.

5. Narrative Budget Justification—for each object class category required under Section B, Standard Form 424A.

6. Project Narrative—A narrative that addresses issues described in the “Application Review Information” and the “Review and Selection Criteria” sections of this announcement.

Application Format

Each application should include one signed original and two additional copies. Faxed applications are not acceptable. Applications should be submitted on white 8.5 x 11 inch paper only. Do not use colored, oversized or folded materials. The font size may be no smaller than 12 pitch and the margins must be at least one inch on all sides.

Page Limitation

Each application narrative should not exceed 20 pages in a double spaced 12 pitch font. Attachments and appendices should not exceed 25 pages and should be used only to provide supporting documentation such as administration charts, position descriptions, resumes, and letters of intent or partnership agreements. A table of contents and an executive summary should be included but will not count in the page limitations. Each page should be numbered sequentially, including the attachments and appendices. This limitation of 20 pages should be considered a maximum, and not necessarily a goal. Application forms are not to be counted in the page limit. Any material submitted beyond the 20 pages will not be reviewed by the review panel.

Please do not include books or videotapes as they are not easily reproduced and are, therefore, inaccessible to the reviewers.

You may submit your application to us in either electronic or paper format.

Electronic Copy Address Submission: To submit an application electronically, please use the www.Grants.gov apply site. If you use Grants.gov, you will be able to download a copy of the application package, complete it off-line, and then upload and submit the application via the Grants.gov site. You may not e-mail an electronic copy of a grant application to us.

Please note the following if you plan to submit your application electronically via Grants.gov:

• Electronic submission is voluntary.

• When you enter the Grants.gov site, you will find information about submitting an application electronically through the site, as well as the hours of operation. We strongly recommend that you do not wait until the application deadline date to begin the application process through Grants.gov.

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov.

• You must search for the downloadable application package by the CFDA number.

Forms and Certifications

Applicants for financial assistance under this announcement must file the Standard Form (SF) 424, Application for Federal Assistance; SF-424A, Budget Information—Non-Construction Programs; SF-424B, Assurances—Non-Construction Programs. The forms may be reproduced for use in submitting applications. An application with an original signature and two copies is required.

Applicants must provide a certification concerning lobbying. Prior to receiving an award in excess of $100,000, applicants should furnish an executed copy of the lobbying certification (approved by the Office of Management and Budget under control number 0348-0046). Applicants must sign and return the certification with their application.

Applicants must also understand they will be held accountable for the smoking prohibition included within P.L. 103-227, Title XII Environmental Tobacco Smoke (also known as the PRO-KIDS Act of 1994). A copy of the Federal Register notice which implements the smoking prohibition is included with forms. By signing and submitting the application, applicants are providing the certification and need not mail back the certification with the application.

Applicants must make the appropriate certification of their compliance with all Federal statutes relating to nondiscrimination. By signing and submitting the applications, applicants are providing the certification and need not mail back the certification form.

Private, nonprofit organizations are encouraged to submit with their applications the additional, voluntary survey located under “Grant Related Documents and Forms” titled “Survey for Private, Non-Profit Grant Applicants” at http://www.acf.hhs.gov/programs/ofs/forms.htm.

Please refer to section V.1 Criteria for further information on required content and form of application submission.

IV.3. Submission Dates and Times

Due Date: May 21, 2004.

Explanation of Due Date: Deadline: The closing time and date for receipt of applications is 4:30 p.m. (Eastern Time Zone) on the date noted above. Mailed or hand carried applications received after 4:30 p.m. on the closing date will be classified as late.

Late applications: Applications which do not meet the criteria above are considered late applications. ACF shall notify each late applicant that its application will not be considered in the current competition.

Any application received after 4:30 p.m. on the deadline date will not be considered for competition. Applicants using express/overnight mail services should allow two working days prior to the deadline date for receipt of applications. (Applicants are cautioned that express/overnight mail services do not always deliver as agreed).

Extension of deadlines: ACF may extend application deadlines when circumstances such as acts of God (floods, hurricanes, etc.) occur, or when there are widespread disruptions of mail service, or in other rare cases. A determination to extend or waive deadline requirements rests with the Chief Grants Management Officer.

Required Forms:

What to submit | Required content | Required form or format | When to submit
Table of Contents | As described above | Consistent with guidance in “Application Format” section of this announcement | By application due date.
Project Summary/Abstract | Summary of application request | Consistent with guidance in “Application Format” section of this announcement | By application due date.
SF424, SF424A, SF424B | Per required form | May be found at http://www.acf.hhs.gov/programs/orr/funding/akit.htm | By application due date.
Narrative Budget Justification | As described above | Consistent with guidance in “Application Format” section of this announcement | By application due date.
Project Narrative | A Narrative that addresses issues described in the “Application Review Information” and the “Review and Selection Criteria” sections of this announcement | Consistent with guidance in “Application Format” section of this announcement | By application due date.
Certification Regarding Lobbying | Per required form | May be found at http://www.acf.hhs.gov/programs/orr/funding/akit.htm | By application due date.
Disclosure of Lobbying Activities (SF-LLL) | Per required form | May be found at http://www.acf.hhs.gov/programs/orr/funding/akit.htm | By application due date.
Environmental Tobacco Smoke Certification | Per required form | May be found at http://www.acf.hhs.gov/programs/orr/funding/akit.htm | By application due date.

Additional Forms: Private-non-profit organizations may submit with their applications the additional, voluntary survey located under “Grant Related Documents and Forms” titled “Survey for Private, Non-Profit Grant Applicants”.

What to submit | Required content | Required form or format | When to submit
Survey for Private, Non-Profit Applicants | Per required form | May be found on http://www.acf.hhs.gov/programs/ofs/forms.htm | By application due date.

IV.4. Intergovernmental Review State Single Point of Contact (SPOC)

Notification under Executive Order 12372: This program is covered under Executive Order (E.O.) 12372, “Intergovernmental Review of Federal Programs”, and 45 CFR part 100, “Intergovernmental Review of Department of Health and Human Services Programs and Activities”. Under the Order, States may design their own processes for reviewing and commenting on proposed Federal assistance under covered programs. As of January, 2003, of the most recent SPOC list, the following jurisdictions have elected not to participate in the Executive Order process. Applicants from these jurisdictions or for projects administered by federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia, Washington and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants and Audit Resolution, 370 L'Enfant Promenade, SW., Mail Stop 6C-462, Washington, DC 20447. The official list, including addresses, of the jurisdictions elected to participate in E.O. 12372 can be found at: http://www.whitehouse.gov/omb/grants/spoc.html.

A list of the Single Points of Contact for each State and Territory is included with the application materials in this announcement.

IV.5. Funding Restrictions

Pre-award costs cannot be charged to this grant.

IV.6. Other Submission Requirements

Electronic Submission: To submit an application electronically, please use the www.Grants.gov apply site. For complete details on how to submit electronically, please refer to section IV.2. Content and Form of Application Submission.

Submission by Mail: An Applicant must provide an original application with all attachments, signed by an authorized representative and two copies. The Application must be received at the address below by 4:30 p.m. Eastern Standard Time on or before the closing date. Applications should be mailed to: Sylvia Johnson, Grants Management Officer, Administration for Children and Families, Office of Grants Management, Division of Discretionary Grants, 370 L'Enfant Promenade, SW., 4th Floor West, Washington, DC 20447.

Submission by Hand Delivery: Applicant must provide an original application with all attachments, signed by an authorized representative and two copies. Applications shall be considered as meeting an announced deadline if they are received on or before the deadline date, between the hours of 8 a.m. and 4:30 p.m., EST, at the U.S. Department of Health and Human Services, Administration for Children and Families, Office of Grants Management, Division of Discretionary Grants, ACF Mailroom, 2nd Floor (near loading dock), Aerospace Building, 901 D Street, SW., Washington, DC 20024, between Monday and Friday (excluding Federal holidays). This address must appear on the envelope/package containing the application with the note. Applicants are cautioned that express/overnight mail services do not always deliver as agreed.

V. Application Review Information

V.1. Criteria

Paperwork Reduction Act of 1995 (Public Law 104-13)

Public reporting burden for this collection of information is estimated to average 20 hours per overall response, including the time for reviewing instructions, gathering and maintaining the data needed, and reviewing the collection of information.

The project description is approved under OMB control number 0970-0139, which expires 3/31/2004.

An agency may not conduct or sponsor, and a person is not required to respond to, a collection of information unless it displays a currently valid OMB control number.

Instructions: ACF Uniform Project Description (UPD)

The following are instructions and guidelines on how to prepare the “project summary/abstract” and “Full Project Description” sections of the application. Under the evaluation criteria section, note that each criterion is preceded by the generic evaluation requirement under the ACF Uniform Project Description (UPD). The UPD was approved by the Office of Management and Budget (OMB), Control Number 0970-0139, expiration date 3/31/2004.

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

General Instructions

ACF is particularly interested in specific factual information and statements of measurable goals in quantitative terms. Project descriptions are evaluated on the basis of substance, not length. Extensive exhibits are not required. Cross referencing should be used rather than repetition. Supporting information concerning activities that will not be directly funded by the grant or information that does not directly pertain to an integral part of the grant funded activity should be placed in an appendix. Pages should be numbered and a table of contents should be included for easy reference.

General instructions for preparing a full project description:

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Geographic Location

Describe the precise location of the project and boundaries of the area to be served by the proposed project. Maps or other graphic aids may be attached.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Additional Information

Following are requests for additional information that need to be included in the application:

Staff and Position Data

Provide a biographical sketch for each key person appointed and a job description for each vacant key position. A biographical sketch will also be required for new key staff as appointed.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in Section 501(c)(3) of the IRS code, or by providing a copy of the currently valid IRS tax exemption certificate, or by providing a copy of the articles of incorporation bearing the seal of the State in which the corporation or association is domiciled.

Third-Party Agreements

Include written agreements between grantees and sub-grantees or subcontractors or other cooperating entities. These agreements must detail scope of work to be performed, work schedules, remuneration, and other terms and conditions that structure or define the relationship.

Letters of Support

Provide statements from community, public and commercial leaders that support the project proposed for funding. All submissions should be included in the application OR by application deadline.

Evaluation Criteria

Evaluation Criteria I: Approach (Maximum: 25 Points)

The application provides a clear and feasible strategy for assisting torture survivors that demonstrates knowledge of the clients, experience in serving these clients, and knowledge of community resources, including ethnic-based and faith-based organizations. Other organizations in the community may be funded to provide some of the allowable services to assist the clients. These organizations should be specified and negotiations begun for partnerships in providing comprehensive services to the torture victims. The application describes how the proposed services use client-centered approaches to meeting the needs of torture survivors. The service plan and collaborative relationships are reasonable, substantiated with appropriate documents, and have a likelihood of success in providing a feasible strategy for the torture survivor to become a participating member of the community. Where research and training activities are proposed, applicant provides a plan for research and training demonstrating interest in the health care providers to attend the training activities. When psychotherapeutic services are proposed, they are evidence-based practices, or described as promising practices, with supporting information.

Evaluation Criteria II: Objectives and Need for Assistance (Maximum: 20 Points)

The application clearly demonstrates experience with and knowledge of victims of torture and an assessment of their presence in the proposed geographic area of service. There is a clear description of the process by which the client has access to treatment and to the other allowable services. Where research and training activities are proposed, the applicant identifies professionals outside the treatment centers likely to serve torture victims and demonstrates their interest and willingness to attend training.

Evaluation Criteria III: Organizational Profiles (Maximum: 20 Points)

The application demonstrates the organization's capacity to provide assistance appropriate to torture survivors (and, if appropriate, to the service providers to be trained) that includes: (a) Agency mission and organizational chart; (b) resumes of project staff demonstrating linguistic and cultural access for clients including partnerships with ethnic-based and faith-based organizations; (c) history of experience with torture survivors, such as experience as a treatment center or as an organization that provides social and legal services to survivors of torture; (d) a management plan for the project containing systems of client records, program records, and financial management; (e) timeline for implementation of project activities; and (f) plan for sustaining all or part of the program should federal funds be no longer available.

Evaluation Criteria IV: Results or Benefits Expected (Maximum: 20 Points)

Persons who have been tortured will benefit from the services. Training for professionals outside the treatment centers is clearly explained with schedules for training and training topics are provided. Partnerships with ethnic-based and faith-based organizations are clearly described and documented with letters of agreement for planning purposes. There are clear and understandable outcome measures for services (including the number of clients to be served) and a plan for reporting the outcomes to ORR in providing direct services and in conducting training of professionals outside the treatment centers. Procedures for client-centered treatment planning and client discharge criteria are explained and reasonable.

Evaluation Criteria V: Budget and Budget Justification (Maximum: 15 Points)

The budget is reasonable and clearly justified. The methodologies for estimating the number of client/patients to be served are reasonable. The plan for program income generated by fees, including, Medicaid, Refugee Medical Assistance (RMA), and private health coverage for client fees for treatment, when available, is appropriate, reasonable and viable.

First-time applicants may be awarded up to 10 bonus points for responding to the following criteria:

Evaluation Criteria VI: Geographic Location (First Time Applicants, Only)

First-time applicants have described the community where the treatment center and training programs will be located noting the presence of torture victims, indications of prevalence of the target population, and absence of existing resources for treating torture victims, interest of collaborative ethnic-based or faith-based organizations to provide services, and support in the community for providing services to torture victims.

V.2. Review and Selection Process

Initial ORR Screening

Each application submitted under this program announcement will undergo a pre-review to determine that (1) the application was received by the applicable closing date and submitted in accordance with the instructions in this announcement; and (2) the applicant is an eligible public or private non-profit agency, and/or a faith-based or community organization, and therefore eligible for funding. ORR will return to the applicant those applications which are found not eligible or incomplete.

Competitive Review and Evaluation Criteria

Applications which pass the initial ORR screening will be evaluated and rated by an independent review panel on the basis of specific evaluation criteria. The evaluation criteria were designed to assess the quality of a proposed project, and to determine the likelihood of its success. The evaluation criteria are closely related and are considered as a whole in judging the overall quality of an application. Points are awarded only to applications that are responsive to the evaluation criteria within the context of this program announcement.

Non-Federal Reviewers

ORR may use Federal as well as non-Federal reviewers. Therefore, applicants have the option of omitting from the application copies (not the original) of specific salary rates or amounts of individuals specified in the application budget and Social Security Numbers. The copies may include summary salary information.

VI. Award Administration Information

VI.1. Award Notices

Successful applicants will receive, by postal mail, a cover letter signed by the ORR Director, attaching the official notice of award, the Financial Assistance Award (FAA) notice, which is signed by the grants management officer. As indicated in part V.3. above, ORR anticipates that successful and unsuccessful applicants will be notified of the results of this grant competition within 90 days of the application deadline.

VI.2. Administrative and National Policy Requirements

45 CFR part 74 and 45 CFR part 92.

VI.3. Reporting Requirements

A. Programmatic Reports: Semi-annual.

B. Financial Reports: Semi-annual.

C. Special Reporting Requirements:

Grantees are required to file the Financial Status Report (SF-269) and the Program Progress Reports on a semi-annual basis. Funds issued under these awards must be accounted for and reported upon separately from all other grant activities. A final Financial Status Report and Program Progress Report shall be due 90 days after the project period end date.

Grantees must maintain adequate records to track and report on project outcomes and expenditures by budget line item.

The official receipt point for the original of all reports and correspondence is the ORR Grants Officer. An original and one copy of each report shall be submitted within 30 days of the end of each reporting period: the original addressed to the Grants Officer, Office of Grants Management; a copy addressed to the ORR Project Officer, Office of Refugee Resettlement (see section VII below for contact information).

A final Financial Status Report and Program Progress Report shall be due 90 days after the project period end date.

VII. Agency Contacts

Program Office Contact: Carl Rubenstein, Office of Refugee Resettlement, 370 L'Enfant Promenade, SW., 8th Floor West, Aerospace Building, Washington, DC 20447-0002, E-mail: crubenstein@acf.hhs.gov, Telephone: (202) 205-5933.

Grants Management Office Contact: Sylvia Johnson, Office of Grants Management, Division of Discretionary Grants, 370 L'Enfant Promenade, SW., 4th Floor, Aerospace Building, Washington, DC 20447-0002, E-mail: syjohnson@acf.hhs.gov, Telephone: (202) 401-4524.

VIII. Other Information

The Director reserves the right to award less, or more, than the funds described in this announcement. In the absence of worthy applications, the Director may decide not to make an award if deemed in the best interest of the Government. Funding availability for future years is at the Director's discretion. The Director may invite applications outside of the proposed closing date, if necessary, to respond to the needs of an imminently arriving refugee population.

An applicant may submit more than one application under this announcement, but must apply separately for each priority area.

Applications in Priority Areas 1 and 2 are for project periods of up to two years (24) months. Awards, on a competitive basis, will be for a twelve (12) month budget period although project periods may be up to twenty-four (24) months. Applications for continuation grants funded under these awards, beyond the twelve (12) month budget period but within the twenty-four (24) month project period, will be entertained in subsequent years on a noncompetitive basis, subject to availability of funds, satisfactory progress of the grantee and a determination that continued funding would be in the best interest of the Government.

Priority Area 2

Assistance to Torture Survivors Through Technical Assistance to Organizations and Institutions Providing Direct Services to Torture Victims

Description: ORR intends to award one grant to provide technical assistance to organizations that serve persons who have been tortured. Allowable services under this grant are those listed under section 5(a)(3) of Torture Victims Relief Act of 1998. They are: research and training for health care providers outside of treatment centers, or programs for the purpose of enabling such providers to provide services for the rehabilitation of victims of torture, including treatment of the physical and psychological effects of torture.

II. Award Information

Funding Instrument Type: Grant.

Anticipated Total Priority Area Funding: $550,000 per year.

Anticipated Number of Awards: 1.

Average Projected Award Amount: $550,000 per year.

Ceiling of Individual Awards: $550,000 per year.

Floor on Amount of Individual Awards: None.

Length of Project Periods: Twenty-four month (24) project periods with twelve (12) month budgets.

III. Eligibility Information

III.1. Eligible Applicants

State governments;

County governments;

Nonprofits having a 501(c)(3) status with the IRS, other than institutions of higher education;

Nonprofits that do not have a 501(c)(3) status with the IRS, other than institutions of higher education; and

Other.

Additional Information on Eligibility: Faith-based organizations are also eligible applicants.

Any non-profit organization submitting an application must submit proof of its non-profit status in its application at the time of submission. The non-profit agency can accomplish this by providing any of the following: (a) A reference to the applicant organization's listing in the Internal Revenue Service's (IRS) most recent list of tax-exempt organizations described in the IRS Code; (b) a copy of a currently valid IRS tax exemption certificate; (c) a statement from a State taxing body, State attorney general, or other appropriate State official certifying that the applicant organization has a non-profit status and that none of the net earnings accrue to any private shareholders or individuals; (d) a certified copy of the organization's certificate of incorporation or similar document that clearly establishes non-profit status; or (e) any of the items referenced above for a State or national parent organization and a statement signed by the parent organization that the applicant organization is a local non-profit affiliate.

III.2. Cost-Sharing or Matching:

No.

III.3. Other

On June 27, 2003, the Office of Management and Budget published in the Federal Register a new Federal policy applicable to all Federal grant applicants. The policy requires Federal grant applications to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formal, entitlement and block grant programs, submitted on or after October 1, 2003.

Please ensure that your organization has a DUNS number. You may acquire a DUNS number at no cost by calling the dedicated toll-free DUNS number request line at 1-866-705-5711, or you may request a number on-line at www.dnb.com.

Applicants are cautioned that the ceiling for individual awards is $550,000. Applications exceeding the $550,000 threshold will be returned without review.

IV. Application and Submission Information

IV.1. Address To Request Application Package

Carl Rubenstein, Office of Refugee Resettlement, Administration for Children and Families, 370 L'Enfant Promenade, SW., 8th Floor West, Washington, DC 20447, E-mail: crubenstein@acf.hhs.gov, Telephone: (202) 205-5933, URL: http://www.acf.hhs.gov/programs/orr/funding/akit.htm.

IV.2. Content and Form of Application Submission

Application Content

Each application must include the following components:

1. Table of Contents.

2. Project Summary/Abstract of the Proposed Project—very brief, not to exceed one page, that would be suitable for use in an announcement that the application has been selected for a grant award and which identifies the type of project, the target population and the major elements of the work plan.

3. Completed Standard Form 424—that has been signed by an Authorized Official of the organization applying for the grant who has the authority to obligate the organization legally.

4. Standard Form 424A—Budget Information-Non-Construction Programs.

5. Narrative Budget Justification—for each object class category required under Section B, Standard Form 424A.

6. Project Narrative—A narrative that addresses issues described in the “Application Review Information” and the “Review and Selection Criteria” sections of this announcement.

Application Format

Each application should include one signed original and two additional copies. Faxed applications are not acceptable. Applications should be submitted on white 8.5 x 11 inch paper only. Do not use colored, oversized or folded materials. The font size may be no smaller than 12 pitch and the margins must be at least one inch on all sides.

Page Limitation

Each application narrative should not exceed 20 pages in a double spaced 12 pitch font. Attachments and appendices should not exceed 25 pages and should be used only to provide supporting documentation such as administration charts, position descriptions, resumes, and letters of intent or partnership agreements. A table of contents and an executive summary should be included but will not count in the pages limitations. Each page should be numbered sequentially, including the attachments and appendices. This limitation of 20 pages should be considered a maximum, and not necessarily a goal. Application forms are not to be counted in the page limit. Any material submitted beyond the 20 pages will not be reviewed by the review panel.

Please do not include books or videotapes as they are not easily reproduced and are, therefore, inaccessible to the reviewers.

You may submit your application to us in either electronic or paper format.

Electronic Copy Address Submission: To submit an application electronically, please use the www.Grants.gov apply site. If you use Grants.gov, you will be able to download a copy of the application package, complete it off-line, and then upload and submit the application via the Grants.gov site. You may not e-mail an electronic copy of a grant application to us.

Please note the following if you plan to submit your application electronically via Grants.gov:

• Electronic submission is voluntary.

• When you enter the Grants.gov site, you will find information about submitting an application electronically through the site, as well as the hours of operation. We strongly recommend that you do not wait until the application deadline date to begin the application process through Grants.gov

• To use Grants.gov, you, as the applicant, must have a DUNS Number and register in the Central Contractor Registry (CCR). You should allow a minimum of five days to complete the CCR registration.

• You will not receive additional point value because you submit a grant application in electronic format, nor will we penalize you if you submit an application in paper format.

• You may submit all documents electronically, including all information typically included on the SF 424 and all necessary assurances and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on www.Grants.gov.

• You must search for the downloadable application package by the CFDA number.

Forms and Certifications

Applicants for financial assistance under this announcement must file the Standard Form (SF) 424, Application for Federal Assistance; SF-424A, Budget Information—Non-Construction Programs; SF-424B, Assurances—Non-Construction Programs. The forms may be reproduced for use in submitting applications. An application with an original signature and two copies is required.

Applicants must provide a certification concerning lobbying. Prior to receiving an award in excess of $100,000, applicants should furnish an executed copy of the lobbying certification (approved by the Office of Management and Budget under control number 0348-0046). Applicants must sign and return the certification with their application.

Applicants must also understand they will be held accountable for the smoking prohibition included within P.L. 103-227, Title XII Environmental Tobacco Smoke (also known as the PRO-KIDS Act of 1994). A copy of the Federal Register notice which implements the smoking prohibition is included with forms. By signing and submitting the application, applicants are providing the certification and need not mail back the certification with the application.

Applicants must make the appropriate certification of their compliance with all Federal statutes relating to nondiscrimination. By signing and submitting the applications, applicants are providing the certification and need not mail back the certification form.

Private-non-profit organizations may submit with their applications the additional, voluntary survey located under “Grant Related Documents and Forms” titled “Survey for Private, Non-Profit Grant Applicants.”

Please refer to section V.1 Criteria for further information on required content and form of application submission.

IV.3. Submission Dates and Times

Due Date: May 21, 2004.

Explanation of Due Date:

Deadline: The closing time and date for receipt of applications is 4:30 p.m. (Eastern Time Zone) on the date noted above. Mailed or hand carried applications received after 4:30 p.m. on the closing date will be classified as late.

Late applications: Applications which do not meet the criteria above are considered late applications. ACF shall notify each late applicant that its application will not be considered in the current competition.

Any application received after 4:30 p.m. on the deadline date will not be considered for competition. Applicants using express/overnight mail services should allow two working days prior to the deadline date for receipt of applications. (Applicants are cautioned that express/overnight mail services do not always deliver as agreed).

Extension of deadlines: ACF may extend application deadlines when circumstances such as acts of God (floods, hurricanes, etc.) occur, or when there are widespread disruptions of mail service, or in other rare cases. A determination to extend or waive deadline requirements rests with the Chief Grants Management Officer.

Required Forms:

What to submit | Required content | Required form or format | When to submit
Table of Contents | As described above | Consistent with guidance in “Application Format” section of this announcement | By application due date.
Project Summary/Abstract | Summary of application request | Consistent with guidance in “Application Format” section of this announcement | By application due date.
SF424, SF424A, SF424B | Per required form | May be found at http://www.acf.hhs.giv/programs/orr/funding/akit.htm | By application due date.
Narrative Budget Justification | As described above | Consistent with guidance in “Application Format” section of this announcement | By application due date.
Project Narrative | A Narrative that addresses issues described in the “Application Review Information” and the “Review Information” and the “Review and Selection Criteria” sections of this announcement | Consistent with guidance in “Application Format” section of this announcement | By application due date.
Certification Regarding Lobbying | Per required form | May be found at http://www.acf.hhs.gov/programs/orr/funding/akit.htm | By application due date.
Disclosure of Lobbying Activities (SF-LLL) | Per required form | May be found at http://www.acf.hhs.gov/programs/orr/funding/akit.htm | By application due date.

Additional Forms: Private-non-profit organizations may submit with their applications the additional, voluntary survey located under “Grant Related Documents and Forms” titled “Survey for Private, Non-Profit Grant Applicants.”

What to submit | Required content | Required form or format | When to submit
Survey for Private, Non-Profit Applicants | Per required form | May be found on http://www.acf.hhs.gov/programs/ofs/forms.htm | By application due date.

IV.4. Intergovernmental Review State Single Point of Contact (SPOC),

Notification under Executive Order 12372: This program is covered under Executive Order (E.O.) 12372, “Intergovernmental Review of Federal Programs”, and 45 CFR Part 100, “Intergovernmental Review of Department of Health and Human Services Programs and Activities”. Under the Order, States may design their own processes for reviewing and commenting on proposed Federal assistance under covered programs. As of January, 2003, of the most recent SPOC list, the following jurisdictions have elected not to participate in the Executive Order process. Applicants from these jurisdictions or for projects administered by federally-recognized Indian Tribes need take no action in regard to E.O. 12372: Alabama, Alaska, Arizona, Colorado, Connecticut, Hawaii, Idaho, Indiana, Kansas, Louisiana, Massachusetts, Minnesota, Montana, Nebraska, New Jersey, New York, Ohio, Oklahoma, Oregon, Palau, Pennsylvania, South Dakota, Tennessee, Vermont, Virginia Washington and Wyoming.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants and Audit Resolution, 370 L'Enfant Promenade, S.W., Mail Stop 6C-462, Washington, D.C. 20447. The official list, including addresses, of the jurisdictions elected to participate in E.O. 12372 can be found at: http://www.whitehouse.gov/omb/grants/spoc.html.

A list of the Single Points of Contact for each State and Territory is included with the application materials in this announcement.

IV.5. Funding Restrictions

Pre-award costs cannot be charged to this grant.

IV.6. Other Submission Requirements

Electronic Submission: To submit an application electronically, please use the www.Grants.gov apply site. For complete details on how to submit electronically, please refer to section IV.2. Content and Form of Application Submission.

Submission by Mail: An Applicant must provide an original application with all attachments, signed by an authorized representative and two copies. The Application must be received at the address below by 4:30PM Eastern Standard Time on or before the closing date. Applications should be mailed to: Sylvia Johnson, Grants Management Officer, Administration for Children and Families, Office of Grants Management, Division of Discretionary Grants, 370 L'Enfant Promenade, SW., 4th Floor West, Washington, DC 20447.

Submission by Hand Delivery: Applicant must provide an original application with all attachments, signed by an authorized representative and two copies. Applications shall be considered as meeting an announced deadline if they are received on or before the deadline date, between the hours of 8 a.m. and 4:30 p.m., EST, at the U.S. Department of Health and Human Services, Administration for Children and Families, Office of Grants Management, Division of Discretionary Grants, ACF Mailroom, 2nd Floor (near loading dock), Aerospace Building, 901 D Street, SW., Washington, DC 20024, between Monday and Friday (excluding Federal holidays). This address must appear on the envelope/package containing the application with the note. Applicants are cautioned that express/overnight mail services do not always deliver as agreed.

V. Application Review Information

V.1. Criteria

Paperwork Reduction Act of 1995 (Public Law 104-13)

Public reporting burden for this collection of information is estimated to average 20 hours per overall response, including the time for reviewing instructions, gathering and maintaining the data needed, and reviewing the collection of information.

The project description is approved under OMB control number 0970-0139, which expires 3/31/2004.

An agency may not conduct or sponsor, and a person is not required to respond to, a collection of information unless it displays a currently valid OMB control number.

Instructions: ACF Uniform Project Description (UPD)

The following are instructions and guidelines on how to prepare the “project summary/abstract” and “Full Project Description” sections of the application. Under the evaluation criteria section, note that each criterion is preceded by the generic evaluation requirement under the ACF Uniform Project Description (UPD). The UPD was approved by the Office of Management and Budget (OMB), Control Number 0970-0139, expiration date 3/31/2004.

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application.

General Instructions

ACF is particularly interested in specific factual information and statements of measurable goals in quantitative terms. Project descriptions are evaluated on the basis of substance, not length. Extensive exhibits are not required. Cross referencing should be used rather than repetition. Supporting information concerning activities that will not be directly funded by the grant or information that does not directly pertain to an integral part of the grant funded activity should be placed in an appendix.

Pages should be numbered and a table of contents should be included for easy reference.

General instructions for preparing a full project description:

Introduction

Applicants required to submit a full project description shall prepare the project description statement in accordance with the following instructions and the specified evaluation criteria. The instructions give a broad overview of what your project description should include while the evaluation criteria expands and clarifies more program-specific information that is needed.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Geographic Location

Describe the precise location of the project and boundaries of the area to be served by the proposed project. Maps or other graphic aids may be attached.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Additional Information

Following are requests for additional information that need to be included in the application:

Staff and Position Data

Provide a biographical sketch for each key person appointed and a job description for each vacant key position. A biographical sketch will also be required for new key staff as appointed.

Organizational Profiles

Provide information on the applicant organization(s) and cooperating partners such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

The non-profit agency can accomplish this by providing a copy of the applicant's listing in the Internal Revenue Service's (IRS) most recent list of tax-exempt organizations described in section 501(c)(3) of the IRS code, or by providing a copy of the currently valid IRS tax exemption certificate, or by providing a copy of the articles of incorporation bearing the seal of the State in which the corporation or association is domiciled.

Third-Party Agreements

Include written agreements between grantees and sub-grantees or subcontractors or other cooperating entities. These agreements must detail scope of work to be performed, work schedules, remuneration, and other terms and conditions that structure or define the relationship.

Letters of Support

Provide statements from community, public and commercial leaders that support the project proposed for funding. All submissions should be included in the application or by application deadline.

Evaluation Criteria

Evaluation Criteria I: Approach (Maximum: 25 Points)

The application provides a clear and feasible plan for providing technical assistance to approximately 30 treatment facilities. The application provides a clear and feasible strategy and persuasive explanation for technical assistance activities such as research to support training of medical, mental health, social service, and legal services, including: goals and objectives of the training and research; number of training sessions, curriculum for training; access to the targeted participants (such as, organizations and professionals whose services will be improved by training).

Evaluation Criteria II: Results or Benefits Expected (Maximum: 25 Points)

The outcomes and benefits of the assistance are clearly explained and are reasonable. There are clear and understandable outcome measures for the technical assistance and training, and a plan for reporting the outcomes to ORR.

Evaluation Criteria III: Organizational Profiles (Maximum: 25 Points)

The applicant demonstrates that it has the necessary staff and organization capabilities for providing technical assistance to treatment facilities and includes:

(a) Agency mission and organizational chart;

(b) Resumes of project staff demonstrating appropriate professional background and work experience with torture survivors;

(c) Management plan for the project contains plans for reports, program records, and financial management; and

(d) Timeline for implementation of project activities.

Evaluation Criteria IV: Objectives and Need for Assistance (Maximum: 15 Points)

The applicant clearly demonstrates knowledge of and access to treatment organizations providing services to torture survivors. The applicant also demonstrates a clear understanding of the nature and extent of technical assistance needed by the treatment facilities whether they are more or less experienced in managing a treatment program.

Evaluation Criteria V: Budget and Budget Justification (Maximum: 10 Points)

Budget and Budget Justification. The budget is reasonable and clearly justified.

V.2. Review and Selection Process

Initial ORR Screening

Each application submitted under this program announcement will undergo a pre-review to determine that (1) the application was received by the applicable closing date and submitted in accordance with the instructions in this announcement; and (2) the applicant is an eligible public or private non-profit agency, and/or a faith-based or community organization, and therefore eligible for funding. ORR will return to the applicant those applications which are found not eligible or incomplete.

Competitive Review and Evaluation Criteria

Applications which pass the initial ORR screening will be evaluated and rated by an independent review panel on the basis of specific evaluation criteria. The evaluation criteria were designed to assess the quality of a proposed project, and to determine the likelihood of its success. The evaluation criteria are closely related and are considered as a whole in judging the overall quality of an application. Points are awarded only to applications that are responsive to the evaluation criteria within the context of this program announcement.

Non-Federal Reviewers

ORR may use Federal as well as non-Federal reviewers. Therefore, applicants have the option of omitting from the application copies (not the original) of specific salary rates or amounts of individuals specified in the application budget and Social Security Numbers. The copies may include summary salary information.

VI. Award Administration Information

VI.1. Award Notices

Successful applicants will receive, by postal mail, a cover letter signed by the ORR Director, attaching the official notice of award, the Financial Assistance Award (FAA) notice, which is signed by the grants management officer. As indicated in part V. 3. above, ORR anticipates that successful and unsuccessful applicants will be notified of the results of this grant competition within 90 days of the application deadline.

VI.2. Administrative and National Policy Requirements

45 CFR part 74 and 45 CFR part 92.

VI.3. Reporting Requirements

A. Programmatic Reports: Semi-annual.

B. Financial Reports: Semi-annual.

C. Special Reporting Requirements:

Grantees are required to file the Financial Status Report (SF-269) and the Program Progress Reports on a semi-annual basis. Funds issued under these awards must be accounted for and reported upon separately from all other grant activities. A final Financial Status Report and Program Progress Report shall be due 90 days after the project period end date.

Grantees must maintain adequate records to track and report on project outcomes and expenditures by budget line item.

The official receipt point for the original of all reports and correspondence is the ORR Grants Officer. An original and one copy of each report shall be submitted within 30 days of the end of each reporting period: the original addressed to the Grants Officer, Office of Grants Management; a copy addressed to the ORR Project Officer, Office of Refugee Resettlement (see section VII below for contact information).

A final Financial Status Report and Program Progress Report shall be due 90 days after the project period end date.

VII. Agency Contacts

Program Office Contact: Carl Rubenstein, Office of Refugee Resettlement, 370 L'Enfant Promenade, SW., 8th Floor West, Aerospace Building, Washington, DC 20447-0002, E-mail: crubenstein@acf.hhs.gov, Telephone: (202) 205-5933.

Grants Management Office Contact: Sylvia Johnson, Office of Grants Management, Division of Discretionary Grants, 370 L'Enfant Promenade, SW., 4th Floor, Aerospace Building, Washington, DC 20447-0002, E-mail: syjohnson@acf.hhs.gov, Telephone: (202) 401-4524.

VIII. Other Information

The Director reserves the right to award less, or more than the funds described in this announcement. In the absence of worthy applications, the Director may decide not to make an award if deemed in the best interest of the Government. Funding availability for future years is at the Director's discretion. The Director may invite applications outside of the proposed closing date, if necessary, to respond to the needs of an imminently arriving refugee population.

An applicant may submit more than one application under this announcement, but must apply separately for each priority area.

Applications in Priority Areas 1 and 2 are for project periods of up to two years (24) months. Awards, on a competitive basis, will be for a twelve (12) month budget period although project periods may be up to twenty-four (24) months. Applications for continuation grants funded under these awards, beyond the twelve (12) month budget period but within the twenty-four (24) month project period, will be entertained in subsequent years on a noncompetitive basis, subject to availability of funds, satisfactory progress of the grantee and a determination that continued funding would be in the best interest of the Government.

Dated: March 16, 2004.
Nguyen Van Hanh,
Director, Office of Refugee Resettlement.

[FR Doc. 04-6293 Filed 3-19-04; 8:45 am]

BILLING CODE 4184-01-P